DEPARTMENT OF THE INTERIOR

Bureau of Land Management

[NV-930, 1430-EU; N-65600]

Notice of Realty Action: Competitive Sale of Public Land

AGENCY: Bureau of Land Management, Interior.

ACTION: Competitive sale of public land in Humboldt County, Nevada.

SUMMARY: The below listed public land in Orovada, Humboldt County, Nevada, has been examined and found suitable for disposal pursuant to sections 203 and 209 of the Federal Land Policy and Management Act (FLPMA) of October 21, 1976 (90 Stat. 2750, 43 U.S.C. 1713 and 1719), and the Federal Land Transaction Facilitation Act of July 25, 2000 (Pub. L. 106-248).

DATES: For a period of 45 days from publication of this notice in the Federal Register, interested parties may submit comments to the Assistant Field Manager, Nonrenewable Resources.

ADDRESSES: Written comments should be addressed to Bureau of Land Management, Colin P. Christensen, Assistant Field Manager, Nonrenewable Resources, 5100 E. Winnemucca Blvd., Winnemucca, NV 89445.

SUPPLEMENTARY INFORMATION: The following described parcel of land, situated in Humboldt County, Nevada, is being offered for sale as a competitive sale:

Mount Diablo Meridian, Nevada

T. 45 N., R. 37 E., Section 35, S½SE¼

Containing 80 acres more or less

This land is not required for any federal purposes. The sale is consistent with current Bureau planning for this area and would be in the public interest. The subject land shall be sold for not less than fair market value as determined by appraisal. The locatable, salable, and leasable mineral rights will be conveyed simultaneously with the surface estate. The Fort McDermitt Tribe did not respond to Consultation. The disposal would not generate any adverse energy impacts or limit energy production and distribution (EO 13212).

The above described land is hereby classified for disposal in accordance with Executive Order 6910 and the Act of June 28, 1934, as amended. Upon publication of this notice in the Federal Register, the above described land will be segregated from all other forms of appropriation under the public land laws, including the general mining laws, and leasing under the mineral leasing laws. This segregation will terminate upon issuance of a patent or 270 days from the date of this publication, whichever occurs first. Upon publication of this notice and until completion of the sale, the BLM is no longer taking or accepting land use applications affecting the parcel being offered for sale.

This sale will be by competitive procedures. Bids must not be less than the appraised fair market value. The appraised fair market value is $26,000.00 (twenty-six thousand dollars and no cents). All bids shall be sealed. Each sealed bid shall be accompanied by a certified check, postal money order, bank draft, or cashier's check made payable to the Department of the Interior, Bureau of Land Management for not less than 10 percent or more than 30 percent of the bid amount. Sealed bid envelopes must be marked on the lower left corner with the sale date and the number “N-65600”. At least 60 days prior to the sale, the sale date and appraised fair market value shall be advertised for three consecutive weeks in the Humboldt Sun and Battle Mountain Bugle newspapers. If two or more envelopes containing valid bids of the same amount are received, the determination of which is to be considered the highest bid shall be by supplemental bid. The designated high bidders shall be allowed to submit sealed bids as designated by the Authorized Officer.

Federal law requires all bidders must be U.S. citizens 18 years of age or older, a corporation subject to the laws of any State or of the United States; a State, State instrumentality, or political subdivision authorized to hold property; or an entity, including but not limited to associations or partnerships, legally capable of conveying and holding property or interests therein under the laws of the State of Nevada. Certification or qualification, including citizenship or corporation or partnership, must accompany the bid deposit.

In order to determine the fair market value of the subject land through appraisal, certain assumptions have been made on the attributes and limitations of the lands and potential effects of local regulations and policies on potential land uses. Through publication of this notice, the Bureau of Land Management gives notice that these assumptions may not be endorsed or approved by units of local government.

Furthermore, no warranty of any kind shall be given or implied by the United States as to the potential uses of the land offered for sale; conveyance of the subject land will not be on a contingency basis. It is the buyers' responsibility to be aware of all applicable local government policies and regulations that would affect the subject lands. It is also the buyers' responsibility to be aware of existing and potential uses for nearby properties. When conveyed out of federal ownership, the lands will be subject to any applicable reviews and approvals by the respective unit of local government for proposed future uses, and any such reviews and approvals would be the responsibility of the buyer.

The purchaser/patentee, by accepting a patent, agrees to indemnify, defend, hold harmless from any costs, damages, claims, causes of action, penalties, fines, liabilities, and judgments of any kind or nature arising out of or in connection with the use/or occupancy of the patented real property which has already resulted or does hereafter result in: (1) Violations of federal, state, and local laws and regulations that are now or may in the future become applicable to the real property; (2) judgments, claims or demands of any kind incurred by the United States: (4) other releases or threatened releases of solid or hazardous waste(s) and/or hazardous substance(s), as defined by federal or state environmental laws; off, on, into or under land, property and other interests of the United Stated; (5) other activities by which solids or hazardous substances or wastes, as defined by federal laws are generated, released or stored, used or otherwise disposed of on the patented real property, and any cleanup response, remedial action or other actions related in any manner to said solid wastes or hazardous substances or wastes; or (6) natural resource damages as defined by federal and state law. This covenant shall be construed as running with the patented real property and may be enforced by the United States in a court of competent jurisdiction.

The patent, when issued, will contain the following reservation to the United States: A right-of-way thereon for ditches and canals constructed by the authority of the United States, under the Act of August 30, 1890 (26 Stat. 391; 43 U.S.C. 945).

And will be subject to:

1. Those rights for power transmission line purposes which have been granted to Harney Electric Cooperative, Inc., by Right-of-way NEV-058382 under the Act of October 21, 1976 (43 U.S.C. 1761).

2. County Road #316 under the jurisdiction of Humboldt County which runs the entire length of the parcel along the south edge of the parcel, being the south section line of section 35, T. 45 N., R. 37 E., and having a total width of 22 feet.

3. Those rights for a buried cable which have been granted to Oregon Idaho Utilities, Inc., dba Humboldt Telephone Company by Right-of-way N-60463 under the Act of October 21, 1976 (43 U.S.C. 1761).

The purchaser, by accepting the land patent, agrees to take the property subject to current grazing lease, authorized under the Taylor Grazing Act, 43 U.S.C. 315f, Act of June 28, 1934. The two year notification commenced on August 27, 2001. The lease shall expire on August 26, 2003.

It has been determined that the subject parcel contains no mineral value. The parcel will be sold with no reservation of mineral rights to the United States. Acceptance of a sale offer will constitute an application for conveyance of those mineral interests. The purchaser will be required to pay a $50.00 non-refundable filing fee for conveyance of said mineral interests when remitting final payment for the parcel.

The purchase price does not include the costs for publication in the Federal Register. The purchaser will be required to reimburse the BLM for publishing costs.

Protests: For a period of 45 days from the date of publication of this notice in the Federal Register, interested parties may submit comments regarding whether the BLM followed proper administrative procedures in reaching the decision or any other factor directly related to the suitability of the land for a competitive sale. The Environmental Assessment NV-020-02-11 (EA) and Decision Record are available for review at the Winnemucca Field Office. Comments should be sent to Colin P. Christensen, Assistant Field Manager, Nonrenewable Resources, at the address listed below. Any adverse comments will be reviewed by the State Director who may sustain, vacate, or modify this realty action. In absence of any adverse comments, this realty action will become the final determination of the Department of the Interior. The BLM may accept or reject any or all offers, or withdraw any land or interest in the land from sale, if, in the opinion of the Authorized Officer, consummation of the sale would not be fully consistent with the FLPMA or other applicable laws. The lands will not be offered for sale until at least 60 days after the date of publication of this notice in the Federal Register.

This notice in the Federal Register allows the parcel to be re-offered for sale until the parcel has been sold at the discretion of the Authorized Officer. In the event the parcel is not sold, the parcel shall be automatically opened for entry without further notice on December 30, 2003.

FOR FURTHER INFORMATION CONTACT: M. Lynn Trost, Realty Specialist, Bureau of Land Management, at 5100 E. Winnemucca Blvd., Winnemucca, NV 89445, or telephone (775) 623-1500.

Dated: September 26, 2002.
Terry A. Reed,
Winnemucca Field Manager.

[FR Doc. 02-31664 Filed 12-16-02; 8:45 am]

BILLING CODE 4310-HC-P